INTERNATIONAL TRADE COMMISSION

[Investigation No. 337-TA-732]

In the Matter of Certain Devices Having Elastomeric Gel and Components Thereof; Notice of a Commission Determination Not To Review an Initial Determination Terminating the Investigation in Its Entirety

AGENCY: U.S. International Trade Commission.

ACTION: Notice.

SUMMARY: Notice is hereby given that the U.S. International Trade Commission has determined not to review an initial determination (“ID”) (Order No. 20) of the presiding administrative law judge (“ALJ”) in the above-captioned investigation terminating the investigation in its entirety.

FOR FURTHER INFORMATION CONTACT: Mark B. Rees, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://www.usitc.gov. Hearing-impaired persons are advised that information on this matter can be obtained by contacting the Commission's TDD terminal on (202) 205-1810.

SUPPLEMENTARY INFORMATION: The Commission instituted this investigation on August 4, 2010, based on the complaint, as supplemented, of Interactive Life Forms, LLC of Austin, Texas (“ILF”). 75 FR 47027 (Aug. 4, 2010). The complaint alleged violations of section 337 of the Tariff Act of 1930, as amended (19 U.S.C. 1337), based upon the importation into the United States, the sale for importation, and the sale within the United States after importation of certain devices having elastomeric gel and components thereof by reason of infringement of certain claims of U.S. Patent Nos. 5,782,818 and 5,807,360. The complaint originally named 26 respondents, including Polydigitech Inc. of Schaumburg, Illinois (“Polydigitech”), and Satistic, LLC of Las Vegas, Nevada (“Satistic”). The complaint was later amended, as was the notice of investigation, to add two respondents and correct the identification of two original respondents. 75 FR 64742 (Oct. 20, 2010). Since institution, Satistic has been found in default and all remaining respondents, save Polydigitech, have been terminated from the investigation based upon consent order stipulations and consent orders or based upon settlement.

On December 29, 2010, ILF filed a motion to terminate the investigation in its entirety, in which it represented that it is not seeking entry of a limited exclusion order, a cease and desist order, or any other relief despite Satistic having been found in default. ILF further represented that it had decided to withdraw its complaint against Polydigitech, the last remaining respondent in the investigation, because its allegations against Polydigitech were based upon that firm's distribution of products manufactured by original respondent TENGA Co., Ltd. of Tokyo, Japan, which has since entered into a consent order and been terminated from the investigation. ILF also stated that neither Polydigitech nor the Commission investigative attorney opposed the motion.

On January 28, 2011, the ALJ issued the subject ID. Given ILF's decision not to seek any relief against the defaulted party, and finding no extraordinary circumstances that would preclude the Commission from terminating the investigation in its entirety based on the withdrawal of the complaint as to Polydigitech, the only remaining respondent in the investigation, the ALJ granted ILF's unopposed motion. No petitions for review of the ID were filed.

The Commission has determined not to review the subject ID.

This action is taken under the authority of section 337 of the Tariff Act of 1930, as amended (19 U.S.C. 1337), and Commission Rules 210.21, 210.42 (19 CFR 210.21, 210.42).

By order of the Commission.
Issued: February 17, 2011.
William R. Bishop,
Hearings and Meetings Coordinator.

[FR Doc. 2011-5680 Filed 3-10-11; 8:45 am]

BILLING CODE 7020-02-P